Title 3—

The President

Notice of June 9, 2025

Continuation of the National Emergency With Respect to Belarus

On June 16, 2006, by Executive Order 13405, the President declared a national emergency pursuant to the International Emergency Economic Powers Act (50 U.S.C. 1701 et seq.) to deal with the unusual and extraordinary threat to the national security and foreign policy of the United States constituted by the actions and policies of certain members of the Government of Belarus and other persons to undermine Belarus's democratic processes or institutions, manifested in the fundamentally undemocratic March 2006 elections; to commit human rights abuses related to political repression, including detentions and disappearances; and to engage in public corruption, including by diverting or misusing Belarusian public assets or by misusing public authority.

On August 9, 2021, by Executive Order 14038, the President expanded the scope of the national emergency declared in Executive Order 13405, finding that the Belarusian regime's harmful activities and long-standing abuses aimed at suppressing democracy and the exercise of human rights and fundamental freedoms in Belarus—including illicit and oppressive activities stemming from the August 9, 2020, fraudulent Belarusian presidential election and its aftermath, such as the elimination of political opposition and civil society organizations and the regime's disruption and endangering of international civil air travel—constituted an unusual and extraordinary threat to the national security and foreign policy of the United States.

The actions and policies of certain members of the Government of Belarus and other persons, and the Belarusian regime's harmful activities and long-standing abuses, continue to pose an unusual and extraordinary threat to the national security and foreign policy of the United States. For this reason, the national emergency declared in Executive Order 13405, which was expanded in scope in Executive Order 14038, must continue in effect beyond June 16, 2025. Therefore, in accordance with section 202(d) of the National Emergencies Act (50 U.S.C. 1622(d)), I am continuing for 1 year the national emergency declared in Executive Order 13405.

This notice shall be published in the Federal Register and transmitted to the Congress.

THE WHITE HOUSE,

June 9, 2025.

[FR Doc. 2025-10909

Filed 6-11-25; 11:15 am]

Billing code 3395-F4-P